FEDERAL MINE SAFETY AND HEALTH REVIEW COMMISSION

Sunshine Act Meeting

May 2, 2007.

Time and Date: 10 a.m., Thursday, May 10, 2007.

Place: The Richard V. Backley Hearing Room, 9th Floor, 601 New Jersey Avenue, NW., Washington, DC.

Status: Open.

Matters to be Considered: The Commission will consider and act upon the following in open session: Secretary of Labor v. Marfork Coal Co., Docket Nos. WEVA 2006-788-R, WEVA 2006-789-R, and WEVA 2006-790-R. (Issues include whether an operator may maintain a contest proceeding under section 105(d) of the Mine Act when it does not seek an expedited hearing.)

Any person attending this meeting who requires special accessibility features and/or auxiliary aids, such as sign language interpreters, must inform the Commission in advance of those needs. Subject to 29 CFR 2706.150(a)(3) and 2706.160(d).

Contact Person For More Info: Jean Ellen (202) 434-9950/(202) 708-9300 for TDD Relay/1-800-877-8339 for toll free.

Jean H. Ellen,
Chief Docket Clerk.

[FR Doc. 07-2321 Filed 5-7-07; 3:19 pm]

BILLING CODE 6735-01-M